DEPARTMENT OF LABOR

Office of the Secretary

29 CFR Part 13

RIN 1235-AA13

Establishing Paid Sick Leave for Federal Contractors

AGENCY: Wage and Hour Division, Department of Labor.

ACTION: Proposed rule; extension of comment period.

SUMMARY: This document extends the period for filing written comments until April 12, 2016 on the proposed rulemaking: Establishing Paid Sick Leave for Federal Contractors. The Notice of Proposed Rulemaking (NPRM) was published in the Federal Register on February 25, 2016. The Department of Labor (Department) is taking this action in order to provide interested parties additional time to submit comments.

DATES: The agency must receive comments on or before April 12, 2016. The period for public comments, which was set to close on March 28, 2016, will be extended to April 12, 2016. Comments must be received by 11:59 p.m. on April 12, 2016.

ADDRESSES: You may submit comments, identified by Regulatory Information Number (RIN) 1235-AA13, by either one of the following methods:

Electronic comments: Through the Federal eRulemaking Portal at http://www.regulations.gov. Follow the instructions for submitting comments.

Written comments: Through mail addressed to Robert Waterman, Compliance Specialist, Division of Regulations, Legislation and Interpretation, Wage and Hour Division, U.S. Department of Labor, Room S-3510, 200 Constitution Avenue NW., Washington, DC 20210.

Instructions: Please submit one copy of your comments by only one method. All submissions received must include the agency name (Wage and Hour Division) and Regulatory Information Number identified above for this rulemaking (1235-AA13). All comments received will be posted without change to http://www.regulations.gov, including any personal information provided. Consequently, prior to including any individual's personal information such as Social Security Number, home address, telephone number, and email addresses in a comment, the Department urges commenters to carefully consider that their submissions are a matter of public record and will be publicly accessible on the Internet. It is the commenter's responsibility to safeguard his or her information. Because we continue to experience delays in receiving mail in the Washington, DC area, commenters are strongly encouraged to transmit their comments electronically via the Federal eRulemaking Portal at http://www.regulations.gov or to submit them by mail early. For additional information on submitting comments and the rulemaking process, see the “Public Participation” heading of the SUPPLEMENTARY INFORMATION section of this document.

Docket: For access to the docket to read background documents or comments received, go to the Federal eRulemaking Portal at http://www.regulations.gov.

FOR FURTHER INFORMATION CONTACT: Robert Waterman, Compliance Specialist, Division of Regulations, Legislation and Interpretation, Wage and Hour Division, U.S. Department of Labor, Room S-3510, 200 Constitution Avenue NW., Washington, DC 20210; telephone: (202) 693-0406 (this is not a toll-free number). Copies of the NPRM may be obtained in alternative formats (large print, braille, audio tape, or disc) upon request by calling (202) 693-0023. TTY/TDD callers may dial toll-free (877) 889-5627 to obtain information or request materials in alternative formats.

Questions of interpretation or enforcement of regulations issued by this agency or referenced in this document may be directed to Amy DeBisschop, Director, Government Contracts Branch at (202) 693-0064.

SUPPLEMENTARY INFORMATION:

I. Electronic Access and Filing Comments

Public Participation: The NPRM is available through the Federal Register and the http://www.regulations.gov Web site. You may also access the NPRM through the Department's Web site at http://www.dol.gov/federalregister. To comment electronically on federal rulemakings, go to the Federal eRulemaking Portal at http://www.regulations.gov, which will allow you to find, review, and submit comments on federal documents that are published in the Federal Register and open for comment. Please identify all comments submitted in electronic form by the RIN Docket Number (1235-AA13). Because of delays in receiving mail in the Washington, DC area, in order to ensure timely receipt prior to the close of the comment period, commenters should transmit their comments electronically through the Federal eRulemaking Portal at http://www.regulations.gov or submit them by mail early. Please submit one copy of your comments by only one method.

II. Request for Comment

The Department is proposing regulations to implement Executive Order 13706, which requires certain parties that contract with the Federal Government to provide their employees with up to 7 days of paid sick leave annually, including paid leave allowing for family care.

On September 7, 2015, President Obama announced Executive Order 13706, which was published in the Federal Register on September 10, 2015 (80 FR 54697). Section 3 of the Executive Order instructs the Secretary of Labor to issue regulations by September 30, 2016. The Department published the NPRM in the Federal Register on February 25, 2016 (81 FR 9591), complete with background information, economic impact analysis and proposed regulatory text. The NPRM also requested that interested parties from the public submit comments on the NPRM on or before March 28, 2016.

The Department has received requests to extend the period for filing public comments from government contracting organizations and the U.S. Small Business Administration's Office of Advocacy. Because of the interest that has been expressed in this matter, the Department has decided to provide an extension of the period for submitting public comment until April 12, 2016.

David Weil,
Administrator, Wage and Hour Division.

[FR Doc. 2016-05410 Filed 3-11-16; 8:45 am]

BILLING CODE 4510-27-P